DEPARTMENT OF ENERGY

Federal Energy Regulatory Commission

[Docket Nos. EC01-156-000, et al.]

Alliant Energy Corporate Services, et al.; Notice of State-Federal Western Regional Panel Discussion April 2, 2002

In the matter of: EC01-156-000 and ER01-3154-000, ER01-2995-000, RT01-44-000, RT02-1-000, and EL02-9-000, RT01-15-000 and RT01-35-000, EL00-95-023, EL00-98-022, and RT01-85-000, RT01-93-000, RT01-89-000, EC01-146-000, EC01-156-000, EL01-80-000, ER01-3000-000, ER01-3154-000, ER02-323-000, RM01-12-000, RT01-2-000, RT01-10-000, RT01-67-000, RT01-74-000, RT01-75-000, RT01-77-000, RT01-86-000, RT01-87-000, RT01-88-000, RT01-94-000, RT01-95-000, RT01-98-000, and RT01-101-000, EL00-98-047, EL00-98-Independent System Operator and the -049, and EL00-98-050, EL01-68-000, EL01-116-000, EL01-80-000, RT01-94-000, RM00-10-000, PA02-1-000, EL00-95-024, EL00-98-023, and RT01-83-000, RT01-99-000, RT01-100-000, and RM99-2-000, RT01-1-000, RM98-1-000, EL00-98-021 and RT01-82-000, EL00-95-000, EL00-95-025, EL00-98-024, and RT01-92-000, RT01-34-000, RT02-2-000; Alliant Energy Corporate Services, American Electric Power Company, Arizona Public Service Company, Avista Corporation, California Independent System Operator, California Power Exchange Corporation, Citizens Communications Co., Electricity Market Design and Structure, Investigation of Practices of the California Independent System Operator and the California Power Exchange, Investigation of Wholesale Rates of Public Utility Sellers of Energy and Ancillary Services in the Western Systems Coordinating Council, Montana-Dakota Utilities Company, National Grid USA, NSTAR Services Co., Open Access Same Time Information System, Operational Audit of the California Independent System Operator, Pacific Gas and Electric Company, Regional Transmission Organizations, Regional Transmission Organization Informational Filings, Regulations Governing Off-the-Record Communications, San Diego Gas & Electric Company, San Diego Gas & Electric Company, Sellers of Energy and Ancillary Services, Southern California Edison Company, Southwest Power Pool, Inc., State-Federal Regional Panels.

Notice of State-Federal Western Regional Panel Discussion

April 2, 2002.

The Federal Energy Regulatory Commission (the Commission) will participate in the meeting of the Committee on Regional Electric Power Cooperation on April 29-30, 2002. The meeting will be held at the Horton Grand Hotel, 311 Island Avenue, San Diego, California 92101. From 1:00 p.m. to 2:30 p.m. on April 30, 2002, there will be a state-federal regional panel to discuss standard market design and the cost and benefits of western regional transmission organizations. See Order Announcing the Establishment of State-Federal Regional Panels to Address RTO Issues, Modifying the Application of Rule 2201 in the Captioned Dockets, and Clarifying Order No. 607, 97 FERC ¶61,182 (2001).

The panel discussion will be transcribed, and the transcripts will be placed in related dockets. Ace-Federal Reporters will provide copies of the transcripts at cost. Their phone numbers are (800) 336-6646 and (202) 347-3700. Additionally, The Commission will post the transcripts on its website ten days after receipt from Ace-Federal Reporters.

For additional information, please contact:

Edward Meyers,

Director of State Relations,

Federal Energy Regulatory Commission,

888 N. Capitol Street, NE,

Washington, D.C. 20426,

(202) 208-0004,

Edward.meyers@ferc.gov.

Magalie R. Salas,
Secretary.

[FR Doc. 02-8402 Filed 4-5-02; 8:45 am]

BILLING CODE 6717-01-P